DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS).

Time and Date: June 16, 2004—9 a.m.-2 p.m., June 17, 2004—10 a.m.-3:30 p.m.

Place: Hubert H. Humphrey Building, 200 Independence Avenue SW., Room 800/Eisenberg Room, Washington, DC 20201.

Status: Open.

Purpose: At this meeting the Committee will hear presentations and hold discussions on several health data policy topics. On the morning of the first day the Committee will hear updated and status reports from the Department including topics such as Clinical Data Standards, the Consumer Health Informatics Initiative, and the Privacy Rule. In the afternoon there will be a presentation from the Committee on National Statistics (CNSTAT) on its recently completed assessment of the racial and ethnic data collected by HHS and a discussion of recommendations, reports and letters that the Committee is working on in selected areas including quality, and racial and ethnic data. On the second day the Committee be briefed on the Centers for Disease Control and Prevention's (CDC) Futures Initiative and the Agency for Healthcare Quality and Research's (AHRQ) National Healthcare Disparities Report. In the Afternoon the Committee will be briefed on the Medicare Modernization Reform Act and the Center for Medicare and Medicaid Service's (CMS) Quality Initiatives. There will also be reports from the Subcommittees and discussion of agendas for future Committee meetings.

The times shown above are for the full Committee meeting. Subcommittee breakout sessions are scheduled for late in the afternoon of the first day and in the morning prior to the full Committee meeting on the second day. Agendas for these breakout sessions will be posted on the NCVHS website (UL below) when available.

Contact Person for More Information: Substantive program information as well as summaries of meetings and a roster of committee members may be obtained from Majorie S. Greenberg, Executive Secretary, NCVHS, National Center for Health Statistics, Centers for Disease Control and Prevention, 3311 Toledo Road, Room 2402, Hyattsville, Maryland 20782, telephone (301) 458-4245. Information also is available on the NCVHS home page of the HHS website: http://www.ncvhs.hhs.gov/, where further information including an agenda will be posted when available.

Should you require reasonable accommodation, please contact the CDC Office of Equal Employment Opportunity on (301) 458-4EEO (4336) as soon as possible.

Dated: May 28, 2004.
James Scanlon,
Acting Deputy Assistant Secretary for Science and Data Policy, Office of the Assistant Secretary for Planning and Evaluation.

[FR Doc. 04-13232 Filed 6-10-04; 8:45 am]

BILLING CODE 4151-05-M